ENVIRONMENTAL PROTECTION AGENCY

[ER-FRL-9057-8]

Environmental Impact Statements; Notice of Availability

Responsible Agency: Office of Federal Activities, General Information 202-564-5632 or https://www.epa.gov/nepa.

Weekly receipt of Environmental Impact Statements (EIS)

Filed August 2, 2021 10 a.m. EST Through August 9, 2021 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210113, Final, USACE, CA, Adoption—Westside Subway Extension Transit Corridor Project Extension of the Existing Metro Purple Line and Metro Red Line Heavy Rail Subway Los Angeles County Metropolitan Transportation Authority Los Angeles County CA, Review Period Ends: 09/13/2021, Contact: Kathlyn Osagie 213-330-6030.

The U.S. Army Corps of Engineers (USACE) has adopted the Federal Transit Administration's Final EIS No. 20120072, filed 03/15/2012 with the Environmental Protection Agency. The USACE was not a cooperating agency on this project. Therefore, republication of the document is necessary under Section 1506.3(c) of the CEQ regulations.

EIS No. 20210114, Final, NRC, TX, Interim Storage Partners LLC's License Application for a Consolidated Interim Storage Facility for Spent Nuclear Fuel in Andrews County, Texas, Review Period Ends: 09/13/2021, Contact: James R. Park 301-415-6954.

EIS No. 20210115, Final Supplement, USACE, CA, Adoption—Westside Purple Line Extension Section 4(f) Evaluation, Review Period Ends: 09/13/2021, Contact: Kathlyn Osagie 213-330-6030.

The U.S. Army Corps of Engineers (USACE) has adopted the Federal Transit Administration's Final Supplemental EIS No. 20170235, filed 11/24/2017 with the Environmental Protection Agency. The USACE was not a cooperating agency on this project. Therefore, republication of the document is necessary under Section 1506.3(c) of the CEQ regulations.

EIS No. 20210116, Draft, USFS, CO, Grand Mesa, Uncompahgre and Gunnison Forest Plan Revision, Comment Period Ends: 11/12/2021, Contact: Samantha Staley 970-852-9812.

Amended Notice

EIS No. 20210092, Draft, USAF, ID, Airspace Optimization for Readiness for Mountain Home Air Force Base, Comment Period Ends: 09/22/2021, Contact: Robin Divine 210-925-2730.

Revision to FR Notice Published 07/09/2021; Extending the Comment Period from 08/23/2021 to 09/22/2021.

Dated: August 9, 2021.
Cindy S. Barger,
Director, NEPA Compliance Division, Office of Federal Activities.

[FR Doc. 2021-17325 Filed 8-12-21; 8:45 am]

BILLING CODE 6560-50-P